DEPARTMENT OF DEFENSE

Department of the Army; Corps of Engineers

Notice of Availability of a Supplement to the Draft Environmental Impact Statement (SDEIS) for the Proposed Potash Corporation of Saskatchewan Phosphate Mine Continuation Near Aurora, in Beaufort County, NC

AGENCY: Department of the Army, U.S. Army Corps of Engineers, DoD.

ACTION: Notice.

SUMMARY: The U.S. Army Corps of Engineers (COE), Wilmington District, Regulatory Division has been reviewing the request for Department of the Army authorization, pursuant to Section 404 of the Clean Water Act and Section 10 of the Rivers and Harbors Act, from Potash Corporation of Saskatchewan Phosphate Division (PCS) for the continuation of its phosphate mining operation near Aurora, Beaufort County, NC. PCS proposes to expand its existing open pit phosphate mining operation into a 3,412 acre tract immediately adjacent to the current mine. This expansion would impact 2,408 acres of waters of the U.S. including wetlands adjacent to the Pamlico River and South Creek. The Notice of Availability of the Draft Environmental Impact Statement for this action was published in the Federal Register on Friday, October 20, 2006 (71 FR 61962).

DATES: Written comments on this SDEIS will be received until December 21, 3007.

ADDRESSES: Comments and questions regarding the SDEIS may be addressed to: U.S. Army Corps of Engineers, Wilmington District, Regulatory Division, ATTN: File Number 2001-10096, Post Office Box 1890, Wilmington, NC 28402-1890. Copies of the Draft EIS can be reviewed on the Wilmington District Regulatory homepage at, http://www.saw.usace.army.mil/wetlands/regtour.htm, or contact Ms. Alex Rhodes at (910) 251-4633, to receive written or CD copies of the SDEIS.

FOR FURTHER INFORMATION CONTACT: Questions about the proposed action and SDEIS can be directed to Mr. Tom Walker, Project Manager, Regulatory Division, telephone: (828) 271-7980 extension 222.

SUPPLEMENTARY INFORMATION: The Corps, on October 20, 2006, released a Draft Environmental Impact Statement (DEIS) evaluating the proposed project and alternatives to the proposed project. Simultaneously, the Corps released a public notice requesting comment on the DEIS and the applicant's proposed action. Due to the complexity of this project, the comment period was originally set at three months and subsequently extended an additional 2 weeks. A public hearing was held on December 14, 2006. The DEIS contained no designation of an agency preferred alternative.

Since release of the DEIS, the Corps has reviewed comments and further discussed economic practicability with the applicant. As a result of this evaluation the Corps finds it necessary to evaluate an additional alternative, Alternative “L.” PCS, on its own initiative, has developed a second additional alternative, Alternative “M,” and has requested it be evaluated as well. Both these alternatives are contained within the project area established in the DEIS.

In order to provide the information necessary to objectively evaluate both alternatives “L” and “M” and to compare these alternatives to the alternatives introduced in the DEIS the Corps is releasing this Supplement to the DEIS (SDEIS). The decision whether to issue a Department of the Army Clean Water Act Section 404 permit will be made after completing the required 404(b)(1) analysis and public interest review including full consideration of all comments.

Dated: October 30, 2007.
John E. Pulliam, Jr.,
Colonel, U.S. Army, District Commander.

[FR Doc. 07-5523 Filed 11-5-07; 8:45 am]

BILLING CODE 3710-GN-M